DEPARTMENT OF EDUCATION

[Docket ID ED-2011-OPE-0009]

Public Meeting on Recommendations for Improvement of Student Financial Aid Offer Forms, Development of Model Financial Aid Forms

AGENCY: Office of Postsecondary Education, Department of Education.

ACTION: Notice of public meeting; request for public comments.

SUMMARY: We will conduct a public meeting for interested parties to discuss and offer recommendations for improvements to student financial aid offer forms, as required by section 484 of the Higher Education Opportunity Act (HEOA).

To inform the discussion at the public meeting, we invite written comments on how to improve the information to be included in financial aid offer forms.

We announce the development of a Model Financial Aid Offer page on the Department of Education's Web site at— http://www.ed.gov/policy/highered/guid/aid-offer/index.html. This page presents information related to the Department's activities to carry out the HEOA requirement. This information includes sample financial aid award letter forms and award information for members of the public to respond to and comment upon through Regulations.gov.

DATES: The date, time, and location of the public meeting are listed in the SUPPLEMENTARY INFORMATION section of this notice. We must receive your written comments by August 26, 2011.

ADDRESSES: Submit your written comments through the Federal eRulemaking Portal or via U.S. mail, commercial delivery, or hand delivery. We will not accept comments by fax or by e-mail. Please submit your comments only one time so that we do not receive duplicate copies. In addition, please include the Docket ID at the top of your comments.

Federal eRulemaking Portal: Go to http://www.regulations.gov to submit your comments electronically. Information on using Regulations.gov, including instructions for accessing agency documents, submitting comments, and viewing the docket, is available on the site under “How to Use Regulations.gov” in the “Help” section.

U.S. Mail, Commercial Delivery, or Hand Delivery. If you mail or deliver your comments on financial aid award letters, address them to Marty Guthrie, U.S. Department of Education, 1990 K Street, NW., Room 8042, Washington, DC 20006.

Privacy Note: The Department's policy for comments received from members of the public (including those comments submitted by mail, commercial delivery, or hand delivery) is to make these submissions available for public viewing in their entirety on the Federal eRulemaking Portal at http://www.regulations.gov. Therefore, commenters should be careful to include in their comments only information that they wish to make publicly available on the Internet.

You may inspect all public comments submitted for this public meeting by searching the public comments for docket ED-2011-OPE-0009 on Regulations.gov. You may also inspect the comments, in person, in room 8042, 1990 K Street, NW., Washington, DC between the hours of 8:30 a.m. and 4:00 p.m., Eastern Standard Time, Monday through Friday of each week except Federal holidays.

FOR FURTHER INFORMATION CONTACT: Marty Guthrie, U.S. Department of Education, 1990 K Street, NW., Room 8042, Washington, DC 20006, or by phone at (202) 219-7031. You may also e-mail your questions about the public meeting to: Marty.Guthrie@ed.gov.

If you use a telecommunications device for the deaf (TDD), call the Federal Relay Service (FRS), toll free, at 1-800-877-8339.

Individuals with disabilities can obtain this document in an accessible format (e.g., braille, large print, audiotape, or computer diskette) by contacting the person responsible for information about the public meeting.

SUPPLEMENTARY INFORMATION:

I. Background

Section 484 of the HEOA, Public Law 110-315, requires the Secretary to convene a group to make recommendations to improve financial aid offer forms. The group must include students, families of students, secondary school guidance counselors, representatives of institutions of higher education (including financial aid administrators, registrars, and business officers), and nonprofit consumer groups.

The group's meeting will be held on September 13, 2011, from 9:00 a.m. to 4:00 p.m. at the U.S. Department of Education, 1990 K Street, NW., Eighth Floor Conference Center, Washington, DC 20006. We will conduct an overview and a panel discussion on financial aid award offer letters and related issues during the morning session. We will randomly separate attendees into small groups for the afternoon session. All attendees will be invited to participate in a small group discussion. Each small group will be given a set of questions to discuss. Results from the small group meetings will be reported to participants to conclude the public meeting.

We encourage persons interested in attending and participating in the meeting to register by 5:00 p.m. on September 7, 2011. Register by sending an e-mail to ModelAidOffer@ed.gov. The e-mail should include the name, address, telephone, and e-mail contact information for the individual, as well as the constituency or interest group that the individual represents. We will accept walk-in registrations to the extent space permits.

II. HEOA Requirements for Model Financial Aid Offer Form

The HEOA requires that the recommendations for improving the model financial aid offer form present the following material in a consumer-friendly manner that is simple and understandable:

(1) Information on the student's cost of attendance, including tuition and fees, room and board costs, books and supplies, and transportation.

(2) The amount of financial aid that the student does not have to repay, such as scholarships, grants, and work-study assistance, offered to the student for such year, and the conditions of such financial aid.

(3) The types and amounts of loans under part B, D, or E of title IV of the Higher Education Act of 1965, as amended, for which the student is eligible for such year, and the applicable terms and conditions of such loans.

(4) The net amount that the student, or the student's family on behalf of the student, will have to pay for the student to attend the institution for such year, equal to—

(A) The cost of attendance for the student for such year; Minus.

(B) The amount of financial aid described in paragraphs (2) and (3) that is offered in the financial aid offer form.

(5) Where a student or the student's family can seek additional information regarding the financial aid offered.

(6) Any other information the Secretary of Education determines necessary so that students and parents can make informed student loan borrowing decisions.

III. Proposed Issues for Discussion

We propose that answers to the following questions be used to develop recommendations for improving the model financial aid offer form:

(1) What is the most important change to improve financial aid offer letters?

(2) How can we make clear the bottom line cost that the student must pay?

(3) How can we ensure that the student understands what is included in the cost of attendance?

(4) How can we help the student clearly identify “free” (grant and scholarship) money?

(5) Would it be useful to offer additional details on an accompanying information sheet to maintain a comprehensible format?

IV. Model Financial Aid Format Required

After a review of the public comments and using the group's recommendations, the Secretary must develop a model format for financial aid offer forms. In addition, the Secretary must submit recommendations resulting from the review of the public comments and from the public meeting to the Congressional authorizing committees. Finally, the Secretary is required to make the recommendations and the model financial aid offer format widely available. We will publish these items on the Internet at the Department's Model Financial Aid Offer page.

V. Comments

We are holding this public meeting for interested parties to discuss and offer recommendations for improvements to financial aid offer forms. In addition, interested parties may offer comments based on personal knowledge or experience working with financial aid offer forms, as well as comments based on the information on the Model Financial Aid Offer Web page.

The deadline for submitting comments related to this public meeting is August 19, 2011.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: http://www.federalregister.gov. Specifically, through the advanced search feature at this site, you can limit your search to documents published by the Department.

Dated: July 26, 2011.
Eduardo M. Ochoa,
Assistant Secretary for Postsecondary Education.

[FR Doc. 2011-19267 Filed 7-28-11; 8:45 am]

BILLING CODE 4000-01-P